SMALL BUSINESS ADMINISTRATION

[Declaration of Disaster #3483, Amdt #1]

State of West Virginia

In accordance with notices received from the Department of Homeland Security—Federal Emergency Management Agency, effective March 28, 2003 and April 2, 2003, the above numbered declaration is hereby amended to establish the incident period for this disaster as beginning on February 16, 2003, and continuing through March 28, 2003. This declaration is also amended to include Calhoun, Fayette, Greenbrier, Mason, McDowell, Mercer, Nicholas, Raleigh, Upshur, Webster and Wyoming Counties in the State of West Virginia as a disaster area due to damages caused by a severe winter storm, record snow, heavy rains, flooding and landslides occurring on February 16, 2003, and continuing through March 28, 2003.

In addition, applications for economic injury loans from small businesses located in the contiguous counties of Barbour, Braxton, Gilmer, Harrison, Lewis, Monroe, Pocahontas, Randolph, Ritchie and Summers in the State of West Virginia; and Alleghany, Bath, Bland, Giles and Tazewell Counties in the State of Virginia may be filed until the specified date at the previously designated location. All other counties contiguous to the above named primary counties have been previously declared.

All other information remains the same, i.e., the deadline for filing applications for physical damage is May 13, 2003, and for economic injury the deadline is December 15, 2003.

(Catalog of Federal Domestic Assistance Program Nos. 59002 and 59008)
Dated: April 2, 2003.
Herbert L. Mitchell,
Associate Administrator for Disaster Assistance.

[FR Doc. 03-8662 Filed 4-8-03; 8:45 am]

BILLING CODE 8025-01-P